SMALL BUSINESS ADMINISTRATION

Region IV—North Florida District Advisory Council; Public Meeting

The Small Business Administration Region IV North Florida District Advisory Council, located in the geographical area of Jacksonville, Florida, will hold a public meeting at 11 a.m. Eastern Standard Time on Thursday, June 12, 2003, at the National Entrepreneur Center in downtown Orlando, 315 E. Robinson St., Landmark 1 Building, to discuss such matters as may be presented by Advisory Council members, staff of the Small Business Administration, and/or others present.

Anyone wishing to make an oral presentation to the Board must contact Lola Kress, SBA Public Affairs Specialist, in writing by letter or fax no later than June 10th, 2003, in order to be put on the agenda. Please direct requests to: Lola Kress, Public Affairs Specialist, U.S. Small Business Administration, North Florida District Office, 7825 Baymeadows Way, Suite 100B, Jacksonville, Florida 32256, (904) 443-1900 phone, (904) 443-1980 fax; wilfredo.gonzalez@sba.gov

For further information: Write or call Lola Kress, U.S. Small Business Administration, 7825 Baymeadows Way, Suite 100-B, Jacksonville, Florida 32256-7504, telephone (904) 443-1933.

Candace H. Stoltz,
Director Advisory Councils.

[FR Doc. 03-10607 Filed 4-29-03; 8:45 am]

BILLING CODE 8025-01-P